DEPARTMENT OF ENERGY

Federal Energy Regulatory Commission

[Project No. 7577-012]

Burton Creek Hydro Inc., Sollos Energy, LLC'

Notice of Transfer of Exemption

1. By letter filed December 19, 2012, Burton Creek Hydro Inc. informed the Commission that its exemption from licensing for the Burton Creek Hydro Project, FERC No. 7577, originally issued September 25, 1985,¹ has been transferred to Sollos Energy, LLC. The project is located on Burton Creek in Lewis County, Washington. The transfer of an exemption does not require Commission approval.

¹ 32 FERC ¶ 62,641, Order Granting Exemption From Licensing of a Small Hydroelectric Project of 5 Megawatts or Less.

2. Sollos Energy, LLC, Mr. Samuel Perry located at 5980 SE 30th Street, Mercer Island, Washington 98040 is now the exemptee of the Burton Creek Hydro Project, FERC No. 7577.

Dated: December 26, 2012.
Kimberly D. Bose,
Secretary.

[FR Doc. 2013-00019 Filed 1-4-13; 8:45 am]

BILLING CODE 6717-01-P